DEPARTMENT OF ENERGY

Federal Energy Regulatory Commission

[Docket No. EL06-2-000]

Entergy Services, Inc.; Notice of Institution of Proceeding and Refund Effective Date

March 23, 2006.

On October 14, 2005, the Commission issued an order that instituted a proceeding in Docket No. EL06-2-000, pursuant to section 206 of the Federal Power Act (FPA), 16 U.S.C. 824e, concerning the justness and reasonableness of Entergy Service, Inc.'s proposed reactive power rate. Entergy Services, Inc., 113 FERC ¶ 61,040 (2005).

The refund effective date in Docket No. EL06-2-000, established pursuant to section 206(b) of the FPA, will be the date of publication of this notice in the Federal Register.

Magalie R. Salas,
Secretary.

[FR Doc. E6-4448 Filed 3-27-06; 8:45 am]

BILLING CODE 6717-01-P